Title 3—

The President

Presidential Determination No. 2005-06 of October 22, 2004

Drawdown of Commodities and Services from the Department of Defense to Support African Union Peacekeeping in Darfur, Sudan

Memorandum for the Secretary of State [and] the Secretary of Defense

Pursuant to the authority vested in me by the Constitution and laws of the United States, including section 552(c)(2) of the Foreign Assistance Act of 1961, as amended (FAA), I hereby determine that:

(1)

as a result of an unforeseen emergency, the provision of assistance under Chapter 6 of Part II of the Act in amounts in excess of funds otherwise available for such assistance is important to the national interests of the United States; and

(2)

such unforeseen emergency requires the immediate provision of assistance under Chapter 6 of Part II of the Act.

I therefore direct the drawdown of up to $2,500,000 in commodities and services from the Department of Defense to support the transportation of African Union forces to Darfur, Sudan.

The Secretary of State is authorized and directed to report this determination to the Congress and to publish it in the Federal Register.

B

THE WHITE HOUSE,

Washington, October 22, 2004.

[FR Doc. 04-24846

Filed 11-4-04; 8:45 am]

Billing code 4710-10-P